DEPARTMENT OF VETERANS AFFAIRS

[OMB Control No. 2900-New]

Proposed Information Collection Activity: Proposed Collection; Comment Request

AGENCY: Small and Disadvantaged Business Utilization, Department of Veterans Affairs.

ACTION: Notice.

SUMMARY: The Small and Disadvantaged Business Utilization (OSDBU), Department of Veterans Affairs (VA), is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments for information needed to identify veterans owned businesses.

DATES: Written comments and recommendations on the proposed collection of information should be received on or before January 9, 2006.

ADDRESSES: Submit written comments on the collection of information to Gail Wegner (00VE), Department of Veterans Affairs, 810 Vermont Avenue, NW., Washington, DC 20420 or e-mail: gail.wegner@va.gov. Please refer to “OMB Control No. 2900-New” in any correspondence.

FOR FURTHER INFORMATION CONTACT: Gail Wegner at (202) 303-3296 or FAX (202) 254-0238.

SUPPLEMENTARY INFORMATION: Under the PRA of 1995 (Pub. L. 104-13; 44 U.S.C. 3501 “ 3521), Federal agencies must obtain approval from the Office of Management and Budget (OMB) for each collection of information they conduct or sponsor. This request for comment is being made pursuant to Section 3506(c)(2)(A) of the PRA.

With respect to the following collection of information, OSDBU invites comments on: (1) Whether the proposed collection of information is necessary for the proper performance of OSDBU's functions, including whether the information will have practical utility; (2) the accuracy of OSDBU's estimate of the burden of the proposed collection of information; (3) ways to enhance the quality, utility, and clarity of the information to be collected; and (4) ways to minimize the burden of the collection of information on respondents, including through the use of automated collection techniques or the use of other forms of information technology.

Title: VetBiz Vendor Information Pages.

OMB Control Number: 2900-New.

Type of Review: New collection.

Abstract: The Vendor Information Pages (VIP) will be used to assist federal agencies in identifying small businesses owned and controlled by veterans and service-connected disable veterans. This information is necessary to ensure that veteran own businesses are given the opportunity to participate in Federal contracts and receive contract solicitations information automatically.

Affected Public: Business or other for-profit, and Individuals or households.

Estimated Annual Burden: 2,500 hours.

Estimated Average Burden Per Respondent: 25 minutes.

Frequency of Response: On occasion.

Estimated Number of Respondents: 6,000.

Dated: November 1, 2005.
By direction of the Secretary.
Denise McLamb,
Program Analyst, Records Management Service.

[FR Doc. 05-22424 Filed 11-9-05; 8:45 am]

BILLING CODE 8320-01-P